DEPARTMENT OF AGRICULTURE

Submission for OMB Review; Comment Request

June 9, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by July 14, 2014 will be considered. Written comments should be addressed to: Desk Officer for Agriculture, Office of Information and Regulatory Affairs, Office of Management and Budget (OMB), New Executive Office Building, 725-17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Plants for Planting Regulation.

OMB Control Number: 0579-0190.

Summary of Collection: Under the Plant Protection Act (PPA) (7 U.S.C. 7701 et seq.), the Secretary of Agriculture is authorized to prohibit or restrict the importation, entry, exportation, or movement in interstate commerce of plant pests and other articles, to prevent the introduction of plant pests into the United States. The regulations in 7 CFR Part 319 prohibits or restricts the importation of certain plants and plants products into the United States to prevent the introduction of plant pests and noxious weeds. The regulations contained in “Subpart-Plants for Planting,” §§ 319.37 through 319.37-14, restrict, among other things, the importation of living plants, plant parts, and seed for propagation. The nursery stock regulations require the Animal and Plant Health Inspection Service (APHIS) to collect information from a variety of individuals who are involved in growing, exporting, and importing nursery stock.

Need and Use of the Information: APHIS will collect information to ensure that plant pests are not introduced into the United States. The information APHIS collects serves as the supporting documentation needed to issue required PPQ forms and documents that allow importation of nursery stock. APHIS requires a permit for the restricted articles to ensure that plant pest and plant diseases are not introduced into the United States. APHIS uses this information to implement and invoke the requirements of the Plant Protection Act.

Description of Respondents: Business or other for-profit; Federal Government.

Number of Respondents: 94.

Frequency of Responses: Reporting: On occasion.

Total Burden Hours: 646.

Ruth Brown,
Departmental Information Collection Clearance Officer.

[FR Doc. 2014-13792 Filed 6-11-14; 8:45 am]

BILLING CODE 3410-34-P